DEPARTMENT OF DEFENSE

Office of the Secretary

[DoD-2008-OS-0013]

Privacy Act of 1974; System of Records

AGENCY: Defense Information Systems Agency.

ACTION: Notice; correction.

SUMMARY: The Department of Defense is correcting a Notice to Amend a System of Records that appeared on February 29, 2008 (72 FR 11095). The document corrects the notice to include information previously omitted.

DATES: This proposed action will be effective without further notice on March 31, 2008 unless comments are received which result in a contrary determination.

ADDRESSES: Send comments to the Defense Information Systems Agency, 5600 Columbia Pike, Room 933-I, Falls Church, VA 22041-2705.

FOR FURTHER INFORMATION CONTACT: Ms. Jeanette M. Weathers-Jenkins at (703) 681-2103.

Correction

In the Federal Register of February 29, 2008, in FR Doc. E8-3914, on page 11095, correct to add the following information to read as follows:

K890.01

System name:

Freedom of Information Act File.

System location:

General Counsel(RGC)Headquarters, Defense Information Systems Agency, P.O. Box 4502, Arlington, VA 22204-2199.

Decentralized—DISA Field Activities World-wide. Official mailing addresses are published as an appendix to DISA's compilation of systems of records notices.

Category of individuals covered by the system:

Persons who request information under FOIA.

Categories of records in the system:

Consists of (1) Policy File that contains DOD Directive 5400.7-R, DoD Freedom of Information Act Program; DISA Instruction 630-225-8-DISA, Freedom of Information Act Program. (2) Log File, which consists of a record of all written requests, names, addresses and phone numbers of requestors who request information under the FOIA which has been processed within DISA since January 1, 1996. (3) Correspondence received in DISA relating to FOIA, including replies thereto.

Authority for maintenance of the system:

5 U.S.C. 552, Freedom of Information Act and DOD Directive 5400.7-R, DoD Freedom of Information Act Program.

Purpose(s):

For making available to the public the maximum amount of information concerning the operations and activities of DISA. DISA Management—to receive, process, and respond to requests for information under FOIA. General Counsel, DISA—to review and deny requests for information under provisions of FOIA and to forward applicable correspondence to the Director, DISA when the denial may be contested or appealed. DOD and Department of Justice—for review and in event of judicial action.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The “Blanket Routine Uses” set forth at the beginning of the DISA's compilation of systems of records notices apply to this system.

Policies and practices for storing, retrieving, accessing, retaining, and disposing of records in the system:

Storage:

The paper records in file folders.

Retrievability:

Retrieved by the control number and the name of the individual who requested the information.

Safeguards:

Records are stored in a locked safe. Records pertaining to policy are permanent. Correspondence maintained for two years, then destroyed. Records are maintained in areas accessible only to authorized personnel.

Retention and disposal:

All records are retained by Office of General Counsel, Headquarters, DISA, for two years. Logs are kept until reference need expires.

System manager(s) and address:

FOIA Officer, Headquarters, Defense Information Systems Agency, Code GC, P.O. Box 4502, Arlington, VA 22204-2199.

Notification procedure:

Individuals seeking to determine whether information about themselves is contained in this system should address written inquiries to the Defense Information Systems Agency ATTN: FOIA Officer Code GC, P.O. Box 4502, Arlington, VA 22204-2199.

Requests should contain individual's name, current address, and phone number.

Record access procedures:

Individuals seeking access to information about themselves contained in this system should address inquiries to the FOIA Officer, Defense Information Systems Agency Code GC, P.O. Box 4502, Arlington, VA 22204-2199.

Requests should contain individual's name, current address, and phone number.

Contesting record procedures:

DISA's rules for accessing records, for contesting contents and appealing initial agency determinations are published in DISA Instruction 210-225; 32 CFR part 316; or may be obtained from the system manager.

Record source categories:

From individuals concerned.

Exemptions claimed for the system:

None.

Dated: March 3, 2008.
L.M. Bynum,
Alternate OSD Federal Register Liaison Officer, Department of Defense.

[FR Doc. E8-4714 Filed 3-7-08; 8:45 am]

BILLING CODE 5001-06-P